ENVIRONMENTAL PROTECTION AGENCY

40 CFR Parts 85, 86, and 600

DEPARTMENT OF TRANSPORTATION

National Highway Traffic Safety Administration

49 CFR Parts 523, 531, 533, 536, and 537

[EPA-HQ-OAR-2010-0799; FRL-9505-1; NHTSA-2010-0131]

RIN 2060-AQ54; RIN 2127-AK79

Public Hearings for 2017 and Later Model Year Light-Duty Vehicle Greenhouse Gas Emissions and Corporate Average Fuel Economy Standards

AGENCY: Environmental Protection Agency (EPA) and National Highway Traffic Safety Administration (NHTSA), DOT.

ACTION: Announcement of public hearings

SUMMARY: EPA and NHTSA are announcing public hearings to be held for the joint proposed rules “2017 and Later Model Year Light-Duty Vehicle Greenhouse Gas Emissions and Corporate Average Fuel Economy Standards,” published in the Federal Register on December 1, 2011. The agencies will also accept comment on NHTSA's Draft Environmental Impact Statement (Draft EIS), available on NHTSA's Web site at http://www.nhtsa.gov/fuel-economy. Three hearings will be held, on January 17, January 19, and January 24, 2012. The agencies will assume that all oral comments presented at the hearing are addressed to the joint proposed rules only, unless speakers specifically reference NHTSA's Draft EIS in oral or written testimony.

DATES: NHTSA and EPA will jointly hold three public hearings on the following dates: January 17, 2012 in Detroit, Michigan; January 19, 2012 in Philadelphia, Pennsylvania; and January 24, 2012 in San Francisco, California. The hearings will start at 10 a.m. local time and continue until 5 p.m. or until everyone has had a chance to speak. If you would like to present oral testimony at one of these public hearings, please contact the person identified under FOR FURTHER INFORMATION CONTACT, at least ten days before the hearing.

ADDRESSES: The January 17, 2012 hearing will be held at the Courtyard Detroit Downtown, 333 East Jefferson Avenue, Detroit, Michigan 48226. The January 19, 2012 hearing will be held at the Crowne Plaza Philadelphia Downtown, 1800 Market Street, Philadelphia, Pennsylvania 19103. The January 24, 2012 hearing will be held at the Hyatt at Fisherman's Wharf, 555 North Point Street, San Francisco, California 94133. The hearings will be held at sites accessible to individuals with disabilities. In addition, the agencies will provide the opportunity for the public to listen to each hearing through the following conference call-in line: 1-(866) 299-3188; conference code 734 214 4423#. Please note that this conference line will allow the public to listen only; persons listening will not be able to give an oral presentation via the conference line.

FOR FURTHER INFORMATION CONTACT: If you would like to present oral testimony at a public hearing, please contact JoNell Iffland at EPA by the date specified under DATES, at: Office of Transportation and Air Quality, Assessment and Standards Division (ASD), Environmental Protection Agency, 2000 Traverwood Drive, Ann Arbor, MI 48105; telephone number: (734) 214-4454; fax number: (734) 214-4816; email address: iffland.jonell@epa.gov. Please provide the following information: Name, affiliation, address, email address, telephone and fax numbers, time you wish to speak (morning, afternoon) if there is a preference, and whether you require accommodations such as a sign language interpreter or translator.

Questions concerning the proposed rules should be addressed to NHTSA: Rebecca Yoon, Office of the Chief Counsel, National Highway Traffic Safety Administration, 1200 New Jersey Avenue SE., Washington, DC 20590. Telephone: (202) 366-2992. EPA: Chris Lieske, Office of Transportation and Air Quality, Assessment and Standards Division (ASD), Environmental Protection Agency, 2000 Traverwood Drive, Ann Arbor, MI 48105; telephone number: (734) 214-4584; fax number: (734) 214-4816; email address: lieske.christopher@epa.gov. You may learn more about the proposal by visiting NHTSA's or EPA's web pages at http://www.nhtsa.gov/fuel-economy or http://www.epa.gov/otaq/climate/regulations.htm or by searching the public dockets (NHTSA-2010-0131 (for the proposed rule) or NHTSA-2011-0056 (for the Draft EIS); EPA-HQ-OAR-2010-0799) at http://www.regulations.gov.

SUPPLEMENTARY INFORMATION: The purpose of the public hearings is to provide the public an opportunity to present oral comments regarding NHTSA and EPA's proposals for “2017 and Later Model Year Light-Duty Vehicle Greenhouse Gas Emissions and Corporate Average Fuel Economy Standards.” (December, 1, 2011; 76 FR 74854) These hearings also offer an opportunity for the public to provide oral comments regarding NHTSA's Draft EIS, accompanying the proposed NHTSA fuel economy standards. The agencies will assume that all oral comments presented at the hearing are addressed to the joint proposed rules only, unless speakers specifically reference NHTSA's Draft EIS in oral or written testimony.

The joint proposed rules issued by EPA and by NHTSA on behalf of the Department of Transportation, would further reduce greenhouse gas emissions from and improve fuel economy for light-duty vehicles for model years 2017-2025. The proposal extends the National Program beyond the greenhouse gas and corporate average fuel economy standards for these vehicles set for model years 2012-2016. On May 21, 2010, President Obama issued a Presidential Memorandum requesting that NHTSA and EPA develop through notice and comment rulemaking a coordinated National Program to reduce greenhouse gas emissions of light-duty vehicles for model years 2017-2025. The proposal, consistent with the President's request, responds to the country's critical needs to address global climate change and to reduce oil consumption. NHTSA is proposing Corporate Average Fuel Economy standards under the Energy Policy and Conservation Act, as amended by the Energy Independence and Security Act, and EPA is proposing greenhouse gas emissions standards under the Clean Air Act. These standards would apply to passenger cars, light-duty trucks, and medium-duty passenger vehicles, and, if ultimately adopted, would represent a continued harmonized and consistent National Program. Under the National Program for model years 2017-2025, automobile manufacturers would be able to continue building a single light-duty national fleet that satisfies all requirements under both programs while ensuring that consumers still have a full range of vehicle choices. EPA is also proposing minor changes to the light-duty vehicle regulations applicable to model years 2012-2016, with respect to air conditioner performance, regulatory treatment of emergency vehicles, and measurement of nitrous oxides.

The proposal for which EPA and NHTSA are holding the public hearings was published in the Federal Register on December 1, 2011 (76 FR 74854) and is also available at the Web pages listed above under FOR FURTHER INFORMATION CONTACT and also in the rulemaking dockets. NHTSA's Draft Environmental Impact Statement is available on NHTSA's web page and in NHTSA's docket for the EIS, both referenced above. Once NHTSA and EPA learn how many people have registered to speak at each public hearing, we will allocate an appropriate amount of time to each participant, allowing time for necessary breaks. In addition, we will reserve a block of time for anyone else in the audience who wishes to give an oral presentation. For planning purposes, each speaker should anticipate speaking for approximately ten minutes, although we may need to shorten that time if there is a large turnout. We request that you bring three copies of your statement or other material for the EPA and NHTSA panels. To accommodate as many speakers as possible, we prefer that speakers not use technological aids (e.g., audio-visuals, computer slideshows). However, if you wish to do so, you must notify the contact persons in the FOR FURTHER INFORMATION CONTACT section above. You also must make arrangements to provide your presentation or any other aids to NHTSA and EPA in advance of the hearing in order to facilitate set-up.

NHTSA and EPA will conduct the hearings informally, and technical rules of evidence will not apply. We will arrange for a written transcript of each hearing and keep the official record of each hearing open for 30 days to allow speakers to submit supplementary information. Panel members may ask clarifying questions during the oral presentations, but will not respond to the presentations at that time. You may make arrangements for copies of the transcripts directly with the court reporter. Written statements and supporting information submitted during the comment period will be considered with the same weight as oral comments and supporting information presented at the public hearings. To be assured of consideration, written comments on the proposal must be received by January 30, 2012 (76 FR 74854). Written comments on NHTSA's Draft EIS must be received or uploaded to NHTSA's docket for the EIS by January 31, 2012.

Dated: December 5, 2011.
Ronald Medford,
Deputy Administrator, National Highway Traffic Safety Administration.
Dated: December 5, 2011.
Margo T. Oge,
Director, Office of Transportation and Air Quality, Environmental Protection Agency.

[FR Doc. 2011-31653 Filed 12-8-11; 8:45 am]

BILLING CODE 6560-50-P